ENVIRONMENTAL PROTECTION AGENCY

40 CFR Part 300

[FRL-6939-4]

National Oil and Hazardous Substances; Pollution Contingency Plan National Priorities List

AGENCY: Environmental Protection Agency (EPA).

ACTION: Proposed partial deletion of portions of the Department of Energy (DOE) Mound Superfund Site (Mound Site) known as release block D and release block H from the national priorities list (NPL).

SUMMARY: The EPA proposes to delete Release Block D, a 12-acre parcel of property along the eastern border of the Mound Site, containing two industrial buildings. This proposal also pertains to Release Block H, a 14 acre parcel of property consisting of the Mound plant parking lot portions of the Department of Energy Mound Superfund Site from the NPL. This proposal also requests public comment on this action. The NPL constitutes appendix B to Part 300 of the National and Hazardous Substances Pollution Contingency Plan (NCP), which U.S. EPA promulgated pursuant to Section 105 of the Comprehensive Environmental Response, Compensation, and Liability Act of 1980 (CERCLA) as amended. EPA has determined that these portions of the Site currently pose no significant threat to public health or the environment, as defined by CERCLA, and therefore, further remedial measures under CERCLA are not appropriate. EPA is publishing this proposed rule without prior notification because the Agency views this as a noncontroversial revision and anticipates no dissenting comments. A detailed rationale for this approval is set forth in the direct final rule. If no dissenting comments are received, the deletion will become effective. If EPA receives dissenting comments, the direct final action will be withdrawn and all public comments received will be addressed in a subsequent final rule based on this proposed rule. EPA will not institute a second comment period. Any parties interested in commenting should do so at this time.

DATES: Comments concerning this Action must be received by March 19, 2001.

ADDRESSES: Comments should be mailed to Timothy Fischer, Remedial Project Manager, or Gladys Beard, Associate Remedial Project Manager, U.S. Environmental Protection Agency (SR-6J), 77 W. Jackson, Chicago, IL 60604. Comprehensive information on this Site is available through the public docket, which is available for viewing at the Site Information Repositories at the following locations: U.S. EPA Region 5, Administrative Records 7th Floor, 77 W. Jackson Boulevard, Chicago, Il 60604 (312)-886-0900; and The CERCLA Public Reading Room, Miamisburg Senior Adult Center, 305 Central Avenue, Miamisburg, OH 45342.

FOR FURTHER INFORMATION CONTACT: Timothy Fischer, Remedial Project Manager, at (312) 886-5787 or Gladys Beard, Associate Remedial Project Manager at (312) 886-7253. Written correspondence can be directed to either Mr. Fischer or Ms. Beard at U.S. Environmental Protection Agency, (SR-6J) 77 W. Jackson Blvd., Chicago, IL 60604.

SUPPLEMENTARY INFORMATION: For additional information, see the Direct Final Action which is located in the rules section of this Federal Register.

Authority: 42 U.S.C. 9601-9657; 33 U.S.C. 1321 (c) (2); E.O. 12777, 56 FR 54757, 3 CFR, 1991 Comp.; p. 351; E. O. 12580, 52 FR 2923, 3 CFR, 1987 Comp.; p. 193.

Dated: January 19, 2001.
David A. Ullrich,
Acting Regional Administrator, U.S. EPA Region V.

[FR Doc. 01-3613 Filed 2-14-01; 8:45 am]

BILLING CODE 6560-50-P